DEPARTMENT OF DEFENSE

Office of the Secretary

[Docket ID DOD-2019-HA-0051]

Proposed Collection; Comment Request

AGENCY: Office of the Assistant Secretary of Defense for Health Affairs, DoD.

ACTION: Information collection notice.

SUMMARY: In compliance with the Paperwork Reduction Act of 1995, the Uniformed Services University of the Health Sciences announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 2, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of Accreditation and Organizational Assessment, Uniformed Services University of the Health Sciences, ATTN: Brian Rimm, 4301 Jones Bridge Rd., Bethesda, MD 20814 or call at 301-295-3681.

SUPPLEMENTARY INFORMATION: Title; Associated Form; and OMB Number: Applicant Record System Records; OMB Control Number 0720-XXXX.

Needs and Uses: The information collection requirement is necessary to allow the Uniformed Services University of the Health Sciences to review admission applications and select students. Also used as a management tool for statistical analysis, tracking, reporting, evaluating program effectiveness and conducting research.

Affected Public: Individuals or households.

Frequency: Annually.

Supplemental Application

Annual Burden Hours: 10,350.

Number of Respondents: 2,070.

Responses per Respondent: 1.

Annual Responses: 2,070.

Average Burden per Response: 5 hours.

Preference Form

Annual Burden Hours: 62.1.

Number of Respondents: 2,070.

Responses per Respondent: 1.

Annual Responses: 2,070.

Average Burden per Response: 0.03 hours.

Update Sheet

Annual Burden Hours: 517.5.

Number of Respondents: 2,070.

Responses per Respondent: 1.

Annual Responses: 2,070.

Average Burden per Response: 0.25 hours.

Acceptance & Degree Form

Annual Burden Hours: 165.6.

Number of Respondents: 2,070.

Responses per Respondent: 1.

Annual Responses: 2,070.

Average Burden per Response: 0.08 hours.

Graduation Education Application

Annual Burden Hours: 200.

Number of Respondents: 200.

Responses per Respondent: 1.

Annual Responses: 200.

Average Burden per Response: 1 hour.

Total Burden Hours: 11,295.2.

Total Number of Respondents: 2,270.

Total Annual Responses: 2,270.

The information collection requirement is necessary for use by the Admissions Committee to select the annual class of 171 medical students. The majority of medical schools use the American Medical College Application Service. A secondary application is utilized for the school to gain further information from the applicant. Approximately 3,200 applications are received annually and take 30 hours to complete. This application process accounts for 96,000 of the reported annual burden hours.

This information collection is also necessary for the Graduate Education Office (GEO) to select its incoming students. The application is completed through a single online application. GEO receives approximately 200 applications annually which each take 1 hour, for a total of 200 annual burden hours.

Dated: April 30, 2019.
Aaron T. Siegel,
Alternate OSD Federal Register Liaison Officer, Department of Defense.

[FR Doc. 2019-09058 Filed 5-2-19; 8:45 am]

BILLING CODE 5001-06-P